DEPARTMENT OF STATE

[Public Notice 12008]

Notice of Department of State Sanctions Actions

SUMMARY: The Secretary of State has imposed sanctions on nine individuals and 14 entities and identified two vessels and one aircraft as blocked property.

DATES: The Secretary of State's determination and imposition of sanctions on the nine individuals, 14 entities, two vessels, and one aircraft identified in the SUPPLEMENTARY INFORMATION section were effective on January 26, 2023.

FOR FURTHER INFORMATION CONTACT: Jim Mullinax, Director, Office of Economic Sanctions Policy and Implementation, Bureau of Economic and Business Affairs, Department of State, Washington, DC 20520, tel.: (202) 647 7677, email: MullinaxJD@state.gov.

SUPPLEMENTARY INFORMATION: Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (vii) to be owned or controlled by, or to have acted or purported to act for or on behalf of, directly or indirectly, the Government of the Russian Federation or any person whose property and interests in property are blocked pursuant to this order.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) to be or have been a leader, official, senior executive officer, or member of the board of directors of: (A) the Government of the Russian Federation.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) to be or have been a leader, official, senior executive officer, or member of the board of directors of: (C) an entity whose property and interests in property are blocked pursuant to this order.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (i) to operate or have operated in the technology sector or the defense and related materiel sector of the Russian Federation economy, or any other sector of the Russian Federation economy as may be determined by the Secretary of the Treasury, in consultation with the Secretary of State. The Secretary of the Treasury, in consultation with the Secretary of State, determined that Section 1(a)(i) of E.O. 14024 shall apply to the financial services sector of the Russian Federation economy.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (v) to be a spouse or adult child of any person whose property and interests in property are blocked pursuant to subsection (a)(ii) or (iii) of this section.

The Secretary of State has determined, pursuant to Section 1(a)(vii) of E.O. 14024, that Aktsionernoye Obshchestvo Dalnevostochyy Tsentr Sudostroyeniya I Sudoremonta, Aktsionernoye Obshchestvo Tsentr Sudoremonta Dalzavod, Aktsionernoye Obshchestvo Severo-Vostochnyy Remontnyy Tsentr, Aktsionernoye Obshchestvo Dalnevostchnyy Zavod Zvezda, Aktsionernoye Obshchestvo 179 Sudoremontnyy Zavod, Aktsionernoye Obshchestvo 30 Sudoremontnyy Zavod, Obshchestvo S Organichennoy Otvetstvennostyu Dalnevostochnyy Proektnyy Institut Vostokproektverf, Aktsioneroye Obshchestvo Vladivostokskoye Predpriyatie Elektroradioavtomatika, and Aktsionernoye Obshchestvo Tsentralnoye Konstruktorskoye Byuro Lazurit, MK Interros Invest, Whiteleave Holdings Limited, Saltcliff Trading Limited, and International Limited Liability Company Interros Capital are owned or controlled by, or have acted or purported to act for or on behalf of, directly or indirectly, the Government of the Russian Federation or any person whose property and interests in property are blocked pursuant to E.O. 14024.

The Secretary of State has determined, pursuant to Section 1(a)(iii)(A) of E.O. 14024, that Dmitriy Nikolaevich Bezrukikh, Arkadiy Aleksandrovich Gostev, Ivan Pavlovitch Prokopenko, Denis Valentinovich Manturov, and Andrey Vladimirovich Burov each are or have been leaders, officials, senior executive officers, or members of the board of directors of the Government of the Russian Federation.

The Secretary of State has determined, pursuant to Section 1(a)(iii)(C) of E.O. 14024, that Sergey Leonidovich Batekhin and Sergei Nikolaevich Adonev each are or have been a leader, official, senior executive officer, or member of the board of directors of an entity whose property and interests in property are blocked pursuant to E.O. 14024.

The Secretary of State has determined, pursuant to Section 1(a)(i) of E.O. 14024, that Limited Liability Company Kaleidoskop operates or has operated in the financial services sector of the Russian Federation economy.

The Secretary of State has determined, pursuant to Section 1(a)(v) of E.O. 14024, that Filipp Sergeevich Adonyev and Luka Sergeevich Adonyev are spouses or adult children of a person whose property and interests in property are blocked pursuant to subsection (a)(ii) or (a)(iii) of Section 1 of E.O. 14024.

The following vessels subject to U.S. jurisdiction are blocked:

Addiction (IMO: 1010193) (Linked to Sergei Nikolaevich Adonev) Anatta (IMO: 1011159) (Linked to Sergei Nikolaevich Adonev)

The following aircraft subject to U.S. jurisdiction is blocked:

S5-SAD (Linked to Sergei Nikolaevich Adonev)

Pursuant to E.O. 14024 these persons and property have been added to the Specially Designated Nationals and Blocked Persons List. All property and interests in property of these persons subject to U.S. jurisdiction is blocked.

Whitney Baird,
Principal Deputy Assistant Secretary, Bureau of Economic and Business Affairs, Department of State.

[FR Doc. 2023-06094 Filed 3-23-23; 8:45 am]

BILLING CODE 4710-AE-P